TRADE DEFICIT REVIEW COMMISSION

Notice of Open Hearing of the U.S. Trade Deficit Review Commission

AGENCY: U.S. Trade Deficit Review Commission.

ACTION: Notice of open public hearing.

SUMMARY: Notice is hereby given of the following hearing of the U.S. Trade Deficit Review Commission.

The Commission is mandated to report to the Congress and the President on the causes, consequences, and solutions to the U. S. trade deficit. The purpose of this public hearing is to take testimony from leading experts in the fields of finance, industry and labor. The morning session will focus on the role of financial markets as they relate to the sustainability of the trade and current account deficits and the possible paths of adjustment the market may impose. The afternoon session will focus on the importance of U.S. service sector exports, and the challenges and obstacles that this sector faces in international markets.

Background

In fulfilling its statutory mission, the Commission is holding field hearings to collect input from industry and labor leaders, government officials, leading researchers, other informed witnesses, and the public. Professor Murray Wiedenbaum of Washington University, St. Louis, who is a former chairman of the President's Council of Economic Advisors, chairs the Commission. The Vice Chairman is Professor Dimitri Papadimitriou, president of the Jerome Levy Economics Institute at Bard College, Annandale-on-Hudson, N.Y. The Honorable C. Richard D'Amato, Commissioner, will chair the New York hearing.

Purpose of Hearing

In light of the ongoing massive trade and current account deficits incurred by the United States, progress in improving U.S. exporters' access to foreign markets is critically important. The failure of the WTO Ministerial in Seattle to come up with a negotiating agenda for a new round of multilateral trade negotiations highlights how the consensus on reducing barriers to trade has fractured. Rebuilding the consensus on trade issues in the United States is of critical importance in addressing the large U.S. trade deficits. The work of the Commission, by analyzing the U.S. trade deficits in a non-partisan manner with the input of leading experts, will provide a reasoned and informed answer on how to respond to the trade deficit and its consequences. The findings of the Commission, while not binding, will likely form the basis for Congressional consensus building on trade policy as we enter the next century.

There will be two sessions, one in the morning and one in the afternoon, for presentations by invited witnesses on their views on the interrelationship between the trade deficit and the topics of the hearing. There will be a question and answer period between the Commissioners and the witnesses. Public participation is invited and there will be an open-mike session for public comment at the conclusion of the afternoon session. Sign-up for the open-mike session will take place in the afternoon and will be on a first come first served basis. Each individual or group making an oral presentation will be limited to a total time of 3 minutes. Because of time constraints, parties with common interests are encouraged to designate a single speaker to represent their views.

DATE AND TIME: Monday, March 13, 2000, 9 am to 6 pm Eastern Standard Time inclusive.

ADDRESSES: The hearing will be held at The Regent Wall Street, site of the historic Merchants Exchange, 55 Wall Street, New York, NY 10005. Unlimited seating is available for all dignitaries and members of the public attending the hearing. Dignitaries should call the USTDRC to register.

FOR FURTHER INFORMATION CONTACT: Any member of the public wishing further information concerning the hearing or who wishes to submit oral or written comments should contact Kathy Michels, Administrative Officer for the U.S. Trade Deficit Review Commission, 444 North Capitol Street, NW, Suite 706, Washington, DC 20001; phone 202/624-1409; or via e-mail at: kmichels@sso.org.

Providing oral or written comments: Copies of the draft meeting agenda, when available, may be obtained from the U.S. Trade Deficit Review Commission by going to the Commission's website at www.ustdrc.gov. The Commission requests that written public statements submitted for the record be brief and concise and limited to two pages in length. Written comments (at least 35 copies) must be received at the USTDRC Headquarters Office in Washington, DC by March 6, 2000. Comments received too close to the hearing date will normally be provided to the Commission Members at its hearing. Written comments may be provided up until the time of the hearing.

Authority: The Trade Deficit Review Commission Act, Pub. L. No.105-277, Div. A, section 127, 112 Stat. 2681-547 (1998), established the Commission to study the nature, causes and consequences of the United States merchandise trade and current accounts deficits and report its findings to the President and the Congress. By statute, the Commission must hold at least 4 regional field hearings and 1 hearing in Washington, DC. This is the fourth in a series of field hearings to be conducted. The schedule of hearings is available at the US Trade Deficit Review Commission website www.ustdrc.gov.

For the U.S. Trade Deficit Review Commission.
Dated at Washington, DC, February 8, 2000.
Allan I. Mendelowitz,
Executive Director, U.S. Trade Deficit Review Commission.

[FR Doc. 00-3401 Filed 2-11-00; 8:45 am]

BILLING CODE 6820-46-P